NUCLEAR REGULATORY COMMISSION

Advisory Committee on the Medical Uses of Isotopes: Meeting Notice

AGENCY: U.S. Nuclear Regulatory Commission.

ACTION: Notice of meeting.

SUMMARY: The U.S. Nuclear Regulatory Commission will convene a teleconference meeting of the Advisory Committee on the Medical Uses of Isotopes (ACMUI) on June 24, 2016, to discuss the draft report of the ACMUI Radioactive Seed Localization (RSL) Subcommittee and discuss potential rulemaking to expand the financial assurance requirements for some radioactive byproduct material. The RSL report will include the subcommittee's comments on the draft RSL licensing guidance. For the second topic, NRC staff will summarize the results of a recently completed scoping study to determine whether financial planning requirements for decommissioning and end-of-life management for some radioactive byproduct material, are necessary. NRC staff believes that the financial assurance requirements in Title 10 of the Code of Federal Regulations (10 CFR) Section 30.35 should be expanded to include all byproduct material Category 1 and 2 radioactive sealed sources tracked in the National Source Tracking System. Meeting information, including a copy of the agenda and handouts, will be available at http://www.nrc.gov/reading-rm/doc-collections/acmui/meetings/2016.html. The agenda and handouts may also be obtained by contacting Ms. Sophie Holiday using the information below.

DATES: The teleconference meeting will be held on Friday, June 24, 2016, 3:00 p.m. to 5:00 p.m. Eastern Time.

Public Participation: Any member of the public who wishes to participate in the teleconference should contact Ms. Holiday using the contact information below.

Contact Information: Sophie Holiday, email: sophie.holiday@nrc.gov, telephone: (301) 415-7865.

Conduct of the Meeting

Dr. Philip Alderson, ACMUI Chairman, will preside over the meeting. Dr. Alderson will conduct the meeting in a manner that will facilitate the orderly conduct of business. The following procedures apply to public participation in the meeting:

1. Persons who wish to provide a written statement should submit an electronic copy to Ms. Holiday at the contact information listed above. All submittals must be received by June 21, 2016, 3 business days prior to the meeting, and must pertain to the topic on the agenda for the meeting.

2. Questions and comments from members of the public will be permitted during the meetings, at the discretion of the Chairman.

3. The draft transcript and meeting summary will be available on ACMUI's Web site http://www.nrc.gov/reading-rm/doc-collections/acmui/meetings/2016.html on or about August 08, 2016.

This meeting will be held in accordance with the Atomic Energy Act of 1954, as amended (primarily Section 161a); the Federal Advisory Committee Act (5 U.S.C. App); and the Commission's regulations in 10 CFR part 7.

Dated at Rockville, Maryland, this 2nd day of June 2016.
Andrew L. Bates,
Advisory Committee Management Officer.

[FR Doc. 2016-13552 Filed 6-7-16; 8:45 am]

BILLING CODE 7590-01-P